Proclamation 8816 of May 11, 2012

Military Spouse Appreciation Day, 2012

By the President of the United States of America

A Proclamation

For more than two centuries, our freedom has been safeguarded by brave patriots who have stepped forward and sworn an oath to defend the principles upon which our Republic was founded. Alongside these selfless heroes, our Nation’s military spouses also offer tremendous service and make great sacrifices for our country. On Military Spouse Appreciation Day, we recognize the important role our military families play in keeping our Armed Forces strong and our country safe.

Our military spouses are a vital part of communities across America and around the world. We know them as our neighbors and friends, colleagues and coaches, teachers and nurses. They move from duty station to duty station, picking up their families and careers whenever their country asks. They keep their households running while dealing with the strain of deployment. They support our wounded warriors, preserve the legacies of our fallen, and find ways to give back to our country day after day.

The strength and readiness of America’s military depends on the well-being of our military spouses and families, and my Administration remains committed to ensuring they have the support and resources they deserve. Across Federal agencies, we have made major investments in education and childcare for military families, increased the availability of mortgage assistance to military homeowners, and extended new opportunities for veterans and their loved ones under the Post-9/11 GI Bill.

Inspired by the stories of our military spouses’ resilience and service, First Lady Michelle Obama and Dr. Jill Biden launched the Joining Forces initiative to encourage all Americans to recognize, honor, and serve our military families. In only 1 year, Joining Forces has rallied American businesses to hire tens of thousands of veterans and military spouses, schools have improved educational opportunities for military children, and the medical community has vowed better care for military families. And from small towns to big cities, Americans have shown their gratitude by pledging hours of service and taking on projects that support military families in their communities. To learn more and get involved, visit www.JoiningForces.gov.

America’s service members represent only one percent of our population, but they shoulder the responsibility of protecting our entire Nation and defending the ideals we hold dear. Just as we bear a sacred obligation to serve our men and women in uniform as well as they have served us, we share an equal responsibility to care for their extraordinary spouses who are heroes on the home front. On Military Spouse Appreciation Day, let us honor the unparalleled contributions of our military spouses and reaffirm our commitment to ensuring the priorities of our military families remain the priorities of our Nation.

NOW, THEREFORE, I, BARACK OBAMA, President of the United States of America, by virtue of the authority vested in me by the Constitution and the laws of the United States, do hereby proclaim May 11, 2012, as Military Spouse Appreciation Day. I call upon the people of the United States to honor military spouses with appropriate ceremonies and activities.

IN WITNESS WHEREOF, I have hereunto set my hand this eleventh day of May, in the year of our Lord two thousand twelve, and of the Independence of the United States of America the two hundred and thirty-sixth.

[FR Doc. 2012-11991

Filed 5-15-12; 8:45 am]

Billing code 3295-F2-P